SECURITIES AND EXCHANGE COMMISSION

Sunshine Act Meeting

Federal Register Citation of Previous Announcement: [71 FR 69149, November 29, 2006].

Status: Open Meeting.

Place: 100 F Street, NW., Washington, DC.

Date and Time of Previously Announced Meeting: Monday, December 4, 2006 at 10 a.m.

Change in the Meeting: Deletion of Items.

The following items will not be considered during the Open Meeting on Monday, December 4, 2006:

1. The Commission will consider whether to propose a new rule under the Securities Act of 1933 to revise the criteria for natural persons to be considered “accredited investors” for purposes of investing in certain privately offered investment vehicles.

2. The Commission will consider whether to propose a new rule under the Investment Advisers Act of 1940 to prohibit advisers from making false or misleading statements to investors in certain pooled investment vehicles they manage, including hedge funds.

The Commission determined that no earlier notice thereof was possible.

At times, changes in Commission priorities require alterations in the scheduling of meeting items. For further information and to ascertain what, if any, matters have been added, deleted or postponed, please contact the Office of the Secretary at (202) 551-5400.

Dated: December 1, 2006.
Florence E. Harmon,
Deputy Secretary.

[FR Doc. 06-9562 Filed 12-1-06; 4:04 pm]

BILLING CODE 8011-01-P